NATIONAL ARCHIVES AND RECORDS ADMINISTRATION

[NARA-2014-020]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 16, 2014. Once the appraisal of the records is completed, NARA will send a copy of the schedule. NARA staff usually prepares appraisal memoranda that contain additional information concerning the records covered by a proposed schedule. These, too, may be requested and will be provided once the appraisal is completed. Requesters will be given 30 days to submit comments on the schedule.

ADDRESSES: You may request a copy of any records schedule identified in this notice by contacting Records Management Services (ACNR) using one of the following means:

Mail: NARA (ACNR), 8601 Adelphi Road, College Park, MD 20740-6001

Email: request.schedule@nara.gov

FAX: 301-837-3698

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless specified otherwise. An item in a schedule is media-neutral when the disposition instructions may be applied to records regardless of the medium in which the records are created and maintained. Items included in schedules submitted to NARA on or after December 17, 2007, are media-neutral unless the item is specifically limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Rural Development (N1-572-12-2, 6 items, 5 temporary items). Records related to program accounting and regulatory analysis of loans and mortgages, including correspondence and audit reports. Proposed for permanent retention are regulatory guidance records.

2. Department of Agriculture, Rural Development (N1-572-12-3, 14 items, 14 temporary items). Records related to policy analysis and risk management for debt restructuring loans, including studies, correspondence, audit reports, agreements, bankruptcy court plans, and analysis reports.

3. Department of Defense, National Security Agency (N1-457-13-1, 9 items, 3 temporary items). Records of the Information Assurance Directorate, including administrative manuals, administrative guidance, and non-significant working papers. Proposed for permanent retention are formal published standards, criteria, designs, specifications, memorandums, reports, and agreements.

4. Department of Health and Human Services, Indian Health Service (DAA-0513-2014-0001, 2 items, 2 temporary items). Medical staff credentialing and privileging records.

5. Department of Justice, Federal Bureau of Investigation (DAA-0065-2013-0002, 2 items, 2 temporary items). Non-record and transitory electronic mail messages.

6. Department of Justice, Office of Professional Responsibility (DAA-0060-2011-0027, 6 items, 3 temporary items). Records of misconduct allegations that include non-significant inquiries and investigations, and referrals to state bar and judicial authorities. Proposed for permanent retention are significant inquiries and investigations, whistleblower matters, and deputy counsel files.

7. Department of State, Bureau of Information and Resource Management (DAA-0059-2014-0002, 1 item, 1 temporary item). Master files of an electronic information system containing requests for routine administrative services.

8. Department of the Treasury, Alcohol and Tobacco Tax and Trade Bureau (DAA-0564-2013-0003, 81 items, 79 temporary items). Records include tax files, project plans, studies, applications, permits, and related correspondence. Proposed for permanent retention are directives, policies, organizational data, and reports.

9. Department of the Treasury, Alcohol and Tobacco Tax and Trade Bureau (DAA-0564-2013-0004, 8 items, 7 temporary items). Records of the Office of Chief Counsel including financial transaction files, legislative files, ethics records, memorandums, and general legal correspondence. Proposed for permanent retention are significant litigation files.

10. Department of the Treasury, Alcohol and Tobacco Tax and Trade Bureau (DAA-0564-2013-0005, 50 items, 44 temporary items). Records include training files, financial records, certificate and testing reports, applications, product files, and related records. Proposed for permanent retention are trade and negotiation agreements, historical and opinion files, and regulations files.

11. Department of the Treasury, Alcohol and Tobacco Tax and Trade Bureau (DAA-0564-2013-0008, 9 items, 4 temporary items). Congressional liaison files, routine correspondence, and related records. Proposed for permanent retention are policies, briefing books, high-level speeches, press releases, and congressional correspondence files.

12. Department of the Treasury, Alcohol and Tobacco Tax and Trade Bureau (DAA-0564-2013-0009, 2 items, 2 temporary items). Master files of an electronic information system used to process application and permit files.

13. Department of the Treasury, Internal Revenue Service (DAA-0058-2013-0013, 5 items, 5 temporary items). Records relating to taxpayer and employee privacy protection including incident case files, project files, and meeting summaries.

14. Department of the Treasury, Internal Revenue Service (DAA-0058-2013-0015, 2 items, 2 temporary items). Complaint case files relating to tax return preparer violations.

15. Consumer Financial Protection Bureau, Office of Consumer Response (DAA-0587-2014-0004, 1 item, 1 temporary item). Records of consumer complaints relating to financial institutions.

16. Court Services and Offenders Supervision Agency for the District of Columbia, Agency-wide (DAA-0562-2013-0010, 1 item, 1 temporary item). Master files of an electronic information system used to administer and track employee training courses, learning materials, and related data.

17. Export-Import Bank of the United States, Agency-wide (DAA-0275-2014-0001, 14 items, 9 temporary items). Records include drafts, marketing documents, credit reviews, insurance and pre-approval documents, agreements for financial services, and routine court documents. Proposed for permanent retention are significant policy and communication records including testimony, speeches, and reports.

18. National Archives and Records Administration, Government-wide (DAA-GRS-2013-0005, 8 items, 7 temporary items). General Records Schedule for records related to technology management, including records related to developing, operating, and maintaining computer software, systems, and infrastructure improvements; complying with information technology policies and plans; and maintaining data standards. Proposed for permanent retention is documentation related to electronic records that have been scheduled as permanent.

19. Office of the Director of National Intelligence, Front Office (N1-576-11-2, 10 items, 3 temporary items). Records include routine financial documents. Proposed for permanent retention are the files of senior leadership, including speeches, correspondence, and briefing books, and principal financial records.

20. Office of the Director of National Intelligence, Intelligence Advanced Research Projects Activity (N1-576-12-2, 15 items, 9 temporary items). Records include files related to routine decisions and events, outreach information, initial research studies, reference materials, interim reports, and non-substantive drafts and working papers. Proposed for permanent retention are files of senior officials, organization and management records, unique events records, program budget planning records, substantive working papers, and research program files.

21. Office of the Director of National Intelligence, Mission Support Division (N1-576-12-1, 17 items, 13 temporary items). Records include preliminary drafts and non-substantive working papers, internal special project and program records, insider threat case files, and routine administrative files. Proposed for permanent retention are files of senior-level special programs and projects, service level agreements, policy files, and substantive working papers and drafts.

22. Office of the Director of National Intelligence, Office of the Inspector General (N1-576-11-11, 18 items, 9 temporary items). Records include routine case files and those which did not warrant investigation, annual award program records, reference files, and non-substantive working papers and drafts. Proposed for permanent retention are program files of the Inspector General; investigations, inspections, and audit reports; annual reports; community-level board and working group records; and substantive working papers and drafts.

23. Social Security Administration, Office of the Chief Actuary (DAA-0047-2013-0001, 15 items, 10 temporary items). Records of the Offices of Short Range and Long Range Estimates, including non-significant working, background, reference, and summary files. Proposed for permanent retention are legislation analysis records, significant background files, final reports, and actuarial studies.

Paul M. Wester, Jr.,
Chief Records Officer for the U.S. Government.

[FR Doc. 2014-05716 Filed 3-14-14; 8:45 am]

BILLING CODE 7515-01-P